FEDERAL COMMUNICATIONS COMMISSION

47 CFR Part 73

[DA 00-1754; MM Docket No. 98-99; RM-9283 and RM-9695]

Radio Broadcasting Services; Shoshoni and Dubois, Wyoming

AGENCY: Federal Communications Commission.

ACTION: Final rule.

SUMMARY: In response to a Notice of Proposed Rule Making, 63 FR 36199 (July 2, 1998), this document allots Channels 290C and 244A to Shoshoni, Wyoming as the community's first and second local transmission services. The coordinates for those channels are 43-14-06 North Latitude and 108-06-36 West Longitude. This document also allots Channel 231A to Dubois, Wyoming as that community's first local service. The coordinates for Channel 231A are 43-32-36 North Latitude and 109-37-48 West Longitude.

DATES: Effective September 18, 2000. Filing windows for channels 290C and 244A at Shoshoni and Channel 231A at Dubois will not be opened at this time. Instead, the issue of opening a filing window for those channels will be addressed by the Commission in a subsequent Order.

ADDRESSES: Federal Communications Commission, Washington, DC 20554.

FOR FURTHER INFORMATION CONTACT: R. Barthen Gorman, Mass Media Bureau, (202) 418-2180.

SUPPLEMENTARY INFORMATION: This is a synopsis of the Commission's Report and Order, MM Docket No. 98-99, adopted July 26, 2000, and released August 4, 2000. The full text of this Commission decision is available for inspection and copying during normal business hours in the FCC's Reference Information Center at Portals II, CY-A257, 445 12th Street, SW, Washington, DC. The complete text of this decision may also be purchased from the Commission's copy contractors, International Transcription Service, Inc., (202) 857-3800, located at 1231 20th Street, NW., Washington, DC 20036.

List of Subjects in 47 CFR Part 73

Radio broadcasting.

Part 73 of Title 47 of the Code of Federal Regulations is amended as follows:

PART 73—[AMENDED]

1. The authority citation for Part 73 continues to read as follows:

Authority: 47 U.S.C. 154, 303, 334, 336.

§ 73.202 [Amended]

2. Section 73.202(b), the Table of FM Allotments under Wyoming, is amended by adding Shoshoni, Channels 290C and 244A, and Dubois, Channel 231A.

Federal Communications Commission.
John A. Karousos,
Chief, Allocations Branch, Policy and Rules Division, Mass Media Bureau.

[FR Doc. 00-21575 Filed 8-23-00; 8:45 am]

BILLING CODE 6712-01-P